DEPARTMENT OF COMMERCE

National Oceanic and Atmospheric Administration

Proposed Information Collection; Comment Request; Southwest Region Logbook Family of Forms

AGENCY: National Oceanic and Atmospheric Administration (NOAA), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 23, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Trisha Culver, 562-980-4239 or trisha.culver@noaa.gov.

SUPPLEMENTARY INFORMATION:

I. Abstract

The owners of vessels that fish out of West Coast ports for highly migratory species such as tuna, billfish and sharks are required to submit information about their fishing activities so that the National Marine Fisheries Service and the Pacific Fishery Management Council will be able to monitor the fisheries and determine the effects and effectiveness of the Fishery Management Plan (FMP) for U.S. West Coast Fisheries for Highly Migratory Species (HMS).

The catch and effort statistics from logbooks are essential for evaluating if the objectives of the FMP are being achieved and for evaluating the impacts of potential changes in management to respond to new information or new problems in the fisheries. The use of vessel monitoring system units will facilitate enforcement of closures associated with the longline fishery.

II. Method of Collection

Paper logbooks and electronic reports are required from participants.

III. Data

OMB Number: 0648-0498.

Form Number: None.

Type of Review: Regular submission.

Affected Public: Not-for-profit institutions; and business or other for-profits organizations.

Estimated Number of Respondents: 907.

Estimated Time per Response: 5 minutes for logbooks; 24 seconds for VMS automated position report; 4 hours to install a VMS; and 2 hours per year to maintain a VMS.

Estimated Total Annual Burden Hours: 3,036.

Estimated Total Annual Cost to Public: $1,621 (recordkeeping/reporting costs).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 16, 2007.
Gwellnar Banks,
Management Analyst, Office of the Chief Information Officer.

[FR Doc. E7-9768 Filed 5-21-07; 8:45 am]

BILLING CODE 3510- 22-P